DEPARTMENT OF THE INTERIOR

Fish and Wildlife Service

50 CFR Part 17

[Docket No. FWS-R8-ES-2021-0108; FF09E21000 FXES1111090FEDR 223]

RIN 1018-BE90

Endangered and Threatened Wildlife and Plants; Foothill Yellow-Legged Frog; Threatened Status With Section 4(d) Rule for Two Distinct Population Segments and Endangered Status for Two Distinct Population Segments

AGENCY: Fish and Wildlife Service, Interior.

ACTION: Proposed rule; extension of comment period.

SUMMARY: We, the U.S. Fish and Wildlife Service (Service), are extending the comment period on our December 28, 2021, proposed rule to list four distinct population segments (DPSs) of the foothill yellow-legged frog (Rana boylii), a stream-dwelling amphibian from Oregon and California, under the Endangered Species Act of 1973, as amended (Act). We are extending the proposed rule's comment period for 30 days to give all interested parties an additional opportunity to comment. Comments previously submitted need not be resubmitted as they are already incorporated into the public record and will be fully considered in the final rule.

DATES: The comment period on the proposed rule that published December 28, 2021, at 86 FR 73914, is extended. We will accept comments received or postmarked on or before March 30, 2022.

ADDRESSES: You may submit comments by one of the following methods:

(1) Electronically: Go to the Federal eRulemaking Portal: https://www.regulations.gov. In the Search box, enter FWS-R8-ES-2021-0108, which is the docket number for this rulemaking. Then, click on the Search button. On the resulting page, in the panel on the left side of the screen, under the Document Type heading, check the Proposed Rule box to locate the document. You may submit a comment by clicking on “Comment.”

(2) By hard copy: Submit by U.S. mail to: Public Comments Processing, Attn: FWS-R8-ES-2021-0108, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Michael Fris, Field Supervisor, Sacramento Fish and Wildlife Office, 2800 Cottage Way, Sacramento, CA 95825; telephone 916-414-6700. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On December 28, 2021, we published a proposed rule (86 FR 73914) to list the South Sierra and South Coast DPSs of the foothill yellow-legged frog as endangered and the North Feather and Central Coast DPSs of the foothill yellow-legged frog as threatened with rules issued under section 4(d) of the Act. The proposed rule opened a 60-day comment period, ending February 28, 2022. On January 31, 2022, we received a request to extend the public comment period. With this document, we extend the public comment period for an additional 30 days, as specified above in DATES.

Public Comments

We will accept written comments and information during the extended comment period on our proposed rule to list the South Sierra, South Coast, North Feather, and Central Coast DPSs of the foothill yellow-legged frog. We will consider information and recommendations from all interested parties. We intend that any final action resulting from the proposal will be based on the best scientific and commercial data available. Our final determination will take into consideration all comments and any additional information we receive during the open comment period on the proposed rule.

Because we will consider all comments and information we receive during the open comment period, our final determinations may differ from our December 28, 2021, proposed rule (86 FR 73914). In addition, we may change the parameters of the prohibitions or the exceptions to those prohibitions in the proposed rule issued under section 4(d) of the Act (i.e., the “proposed 4(d) rule”) for the North Feather or Central Coast DPS if we conclude it is appropriate in light of comments and new information received. For example, we may expand the prohibitions in the proposed 4(d) rule for the North Feather or Central Coast DPS to include prohibiting additional activities if we conclude that those additional activities are not compatible with conservation of either DPS. Conversely, we may establish additional exceptions to the prohibitions in the final rule if we conclude that the activities would facilitate or are compatible with the conservation and recovery of either DPS.

If you already submitted comments or information on the December 28, 2021, proposed rule, please do not resubmit them. Any such comments are incorporated as part of the public record of the rulemaking proceeding, and we will fully consider them in the preparation of our final determinations.

Comments should be as specific as possible. Please include sufficient information with your submission (such as scientific journal articles or other publications) to allow us to verify any scientific or commercial information you assert.

Please note that submissions merely stating support for, or opposition to, the action under consideration without providing supporting information, although noted, do not provide substantial information necessary to support our determination, as section 4(b)(1)(A) of the Act directs that determinations as to whether any species is an endangered species or a threatened species must be made “solely on the basis of the best scientific and commercial data available.”

We request that you send comments and materials only by one of the methods listed in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the proposed rule, will be available for public inspection on https://www.regulations.gov at Docket No. FWS-R8-ES-2021-0108.

Authors

The primary authors of this document are the staff members of the Fish and Wildlife Service's Species Assessment Team and the California Great Basin Regional Office (Interior Region 10).

Authority

The Endangered Species Act of 1973, as amended (16 U.S.C. 1531 et seq.), is the authority for this action.

Martha Williams,
Principal Deputy Director, Exercising the Delegated Authority of the Director, U.S. Fish and Wildlife Service.

[FR Doc. 2022-04257 Filed 2-25-22; 8:45 am]

BILLING CODE 4333-15-P